DEPARTMENT OF DEFENSE

Department of the Army; Corps of Engineers

Notice of Intent To Prepare a Draft Environmental Impact Statement (EIS) for the Potable Water Supply for Washington Parish Reservoir, Project

AGENCY: Department of the Army, U.S. Army Corps of Engineers, DOD.

ACTION: Notice of intent.

SUMMARY: The study area comprises Washington Parish in southeast Louisiana. Washington Parish currently consumes approximately 40 million gallons of water daily, 70 percent of which is supplied by groundwater. Decreasing groundwater levels (quantity) and groundwater quality, in combination with forecasted growth within the Parish require alternative water supplies to be developed. The purpose of the project is to identify a new water supply to address the current and future potable water demands of Washington Parish. The Local Project Sponsor is the Washington Parish Reservoir Commission.

DATES: A public scoping meeting will be held on April 10, 2008 at 5:30 p.m.

ADDRESSES: The public scoping meeting will be held in Bogalusa, LA at the Bogalusa City Hall, 202 Arkansas Avenue, Bogalusa, LA 70427.

FOR FURTHER INFORMATION CONTACT: Questions about the proposed action and Draft EIS should be directed to: Karen Dove-Jackson at (601) 631-7136, Vicksburg District, Corps of Engineers, 4155 Clay Street, CEMVK-OD-FE, Vicksburg, MS 39183-3435.

SUPPLEMENTARY INFORMATION: Pursuant to Louisiana House Bill 216, 2003 Regular Session, the Louisiana Legislature created the Washington Parish Reservoir Commission as a State Entity. This law gives the Washington Parish Reservoir Commission the power to obtain land needed for the reservoir pursuant to the State of Louisiana's principle of eminent domain, and in accordance with the Louisiana Laws and Revised Statutes for this principle.

1. The Washington Parish Reservoir Commission completed a site selection study (January 2005) to determine a recommended best source of future potable water for Washington Parish. The study concluded that creation of a surface water reservoir by damming Bogalusa Creek was the most desirable. The Washington Parish Reservoir Commission subsequently completed a preliminary engineering report (December 2006) that presented preliminary design, planning level costs estimates, and preliminary construction plans for a water supply reservoir. Based upon review of the site selection report, the Corps concluded that the proposed project had the potential for significant impacts to the human and natural environment. The National Environmental Policy Act (NEPA) requires the preparation of an EIS for proposals that are subject to federal funding, control, responsibility and permitting, and which have the potential for significant impacts. The proposed project would affect wetlands, which are regulated by the Corps, and require a permit to comply with Section 404 of the Clean Water Act. Because the proposed project would require federal involvement, it is subject to NEPA. Preliminary alternatives being considered include construction of a new surface water supply reservoir, construction of distribution systems to make available existing surface water supplies, and increased use of groundwater.

2. The Southern Hills Aquifer system supplies Washington Parish with potable water. The Southern Hills Aquifer system is one of the most heavily pumped aquifers in Louisiana, supplying 290 million gallons per day for consumption. Recent studies indicate that the Southern Hills Aquifer system is supplying more water annually than it can sustain, and water levels in the aquifer are dropping as much as one foot annually. In addition to aquifer water levels, the water quality of the aquifer is also declining.

3. A public scoping meeting will be held (see DATES and ADDRESSES). Significant issues identified during this scoping process will be analyzed in depth in the Draft EIS.

4. Upon completion, the Draft EIS will be distributed for agency and public review and comment. Additionally, a public meeting will be held to present results of the Draft EIS evaluations and the recommended plan.

5. The Draft EIS is estimated to be completed in September 2008.

Brenda S. Bowen,
Army Federal Register Liaison Officer.

[FR Doc. E8-6447 Filed 3-27-08; 8:45 am]

BILLING CODE 3710-PU-P